DEPARTMENT OF TRANSPORTATION

Federal Aviation Administration

14 CFR Part 39

[Docket No. 2001-NM-243-AD; Amendment 39-14028; AD 2005-07-04]

RIN 2120-AA64

Airworthiness Directives; Airbus Model A330, A340-200, and A340-300 Series Airplanes

AGENCY: Federal Aviation Administration (FAA), Department of Transportation (DOT).

ACTION: Final rule.

SUMMARY: This amendment supersedes an existing airworthiness directive (AD), applicable to the airplane models listed above. That AD currently requires repetitive inspections to detect discrepancies of the transfer tubes and the collar of the ball nut of the trimmable horizontal stabilizer actuator (THSA), and corrective action if necessary. This amendment expands the applicability of the existing AD; and requires new repetitive inspections for discrepancies of the ball screw assembly; corrective action if necessary; repetitive greasing of the THSA ball nut, and replacement of the THSA if necessary; and a modification or replacement (as applicable) of the ball nut assembly, which would end certain repetitive inspections. The actions specified by this AD are intended to prevent degraded operation of the THSA due to the entrance of water into the ball nut. Degraded operation could lead to reduced controllability of the airplane. This action is intended to address the identified unsafe condition.

DATES: Effective May 4, 2005.

The incorporation by reference of certain publications, as listed in the regulations, is approved by the Director of the Federal Register as of May 4, 2005.

The incorporation by reference of certain other publications, as listed in the regulations, was approved previously by the Director of the Federal Register as of June 26, 2001 (66 FR 31143, June 11, 2001).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 2001-11-09, amendment 39-12252 (66 FR 31143, June 11, 2001), which is applicable to certain Airbus Model A330 and A340 series airplanes, was published as a supplemental notice of proposed rulemaking (NPRM) in the Federal Register on August 31, 2004 (69 FR 53016). That action proposed to expand the applicability of the existing AD; and require new repetitive inspections for discrepancies of the ball screw assembly; corrective action if necessary; repetitive greasing of the trimmable horizontal stabilizer actuator (THSA) ball nut, and replacement of the THSA if necessary; and a modification or replacement (as applicable) of the ball nut assembly, which would end certain repetitive inspections.

Explanation of New Relevant Service Information

Since the preparation of the supplemental NPRM, Airbus has issued Service Bulletin A330-27-3102, Revision 05, dated July 7, 2004. (The supplemental NPRM refers to Airbus Service Bulletin A330-27-3102, Revision 04, dated December 8, 2003, as the acceptable source of service information for accomplishing certain inspections and corrective actions.) Airbus issued Revision 05 to expand the effectivity to include Models A330-302 and -303 airplanes, and to list additional manufacturer's serial numbers in the service bulletin. Revision 05 does not contain any new procedures. Accordingly, we have revised paragraph (e) of this AD to refer to Revision 05 as the acceptable source of service information for the actions required by that paragraph. We have also revised paragraph (i)(2) of this AD to state that inspections and corrective actions accomplished previously in accordance with Airbus Service Bulletin A330-27-3102, Revision 04, are acceptable for compliance with paragraph (e). We find that referring to Revision 05 does not result in an expansion of the applicability of this AD because the applicability of the supplemental NPRM includes all Airbus Model A330, A340-200, and A340-300 series airplanes.

The Direction Générale de l'Aviation Civile (DGAC), which is the airworthiness authority for France, classified Airbus Service Bulletin A330-27-3102, Revision 05, as mandatory and issued French airworthiness directive F-2002-414 R3, dated July 7, 2004, to ensure the continued airworthiness of these airplanes in France. We have revised Note 8 of this AD to refer to this latest revision of the French airworthiness directive.

Explanation of Editorial Change

We have revised paragraphs (c)(3) and (f) of this AD to more accurately state the warning messages that may be displayed on the electronic centralized aircraft monitor (ECAM) associated with the “PITCH TRIM ACTR (1CS)” maintenance message.

Comments

Interested persons have been afforded an opportunity to participate in the making of this amendment. Due consideration has been given to the comments received.

Request To Remove Paragraph (f)

One commenter requests that we revise the supplemental NPRM to remove paragraph (f), which requires inspecting in accordance with paragraph (e) of the supplemental NPRM before further flight if a “F/CTL PRIM X PITCH FAULT” or “F/CTL STAB CTL FAULT” warning message is displayed on the ECAM associated with the “PITCH TRIM ACTR (1CS).” The commenter states that it has no mechanism to document compliance with this requirement because, if the ECAM warning is displayed in flight, there is no process to ensure that the pilot will record the warning in the airplane logbook, though this is the general practice.

The commenter further states that the normal procedures if the subject ECAM message appears would lead a mechanic to the Airbus A330/A340 Troubleshooting Manual (TSM), most likely to TSM Task 27-90-00-810-847, “Failure of the Pitch Trim Actuator Detected by the FCPC1 or FCPC2.” The commenter explains that the first step of this task would be to perform an operational test of the servo loops of the trimmable horizontal stabilizer. If this operational test shows no discrepancy, no further action would be necessary. If the test confirms a discrepancy, the TSM specifies a detailed visual inspection of the ball screw assembly in accordance with Task 27-44-51-210-805 of the Airbus A330/A340 Airplane Maintenance Manual (AMM). The commenter feels that the TSM is the primary source of guidance for diagnosing system problems and that the procedures in the TSM would provide adequate guidance should a subject ECAM message appear. Thus, the commenter states that the requirements of paragraph (f) of the supplemental NPRM are not warranted. The commenter does note that there is no mechanism for it “to generate the requirement to refer to the specific TSM task and document its compliance in every instance.”

We do not concur that paragraph (f) of this AD is unnecessary. Section 121.563 (“Reporting mechanical irregularities”) of the Federal Aviation Regulations (FARs) (14 CFR 121.563) requires that the pilot ensure that all mechanical irregularities that occur during flight are entered into the maintenance log at the end of the flight. That section also requires that, before each flight, the pilot must determine the status of any irregularity entered in the maintenance log at the end of the preceding flight. A “F/CTL PRIM X PITCH FAULT” message is informational only and will remain displayed on ECAM through landing because there is no action that the crew can take that will correct the failure. Crew procedures for the “F/CTL STAB CTL FAULT” will also not correct the failure; therefore that ECAM message will remain displayed through landing. ECAM messages remaining after the flight are considered mechanical irregularities that must be entered in the maintenance log in accordance with 14 CFR 121.563. We have not changed the AD in this regard.

However, we do concur that performing an operational test in accordance with TSM Task 27-90-00-810-847 would be an acceptable means of complying with paragraph (e) of this AD, provided that, if the operational test confirms a discrepancy, the detailed inspection required by paragraph (e) of this AD, and any necessary corrective actions, are done before further flight. We have revised paragraph (e) of this AD accordingly.

Request To Allow Alternative Method for Repetitive Inspections

The first commenter requests that, if we decide that it is necessary to retain paragraph (f) of the supplemental NPRM, we refer to AMM Task 27-44-51-210-805 as an alternative method for doing the repetitive inspections. A second commenter makes the same request. The commenters note that the procedures in this AMM task are equivalent to those in Airbus Service Bulletin A330-27-3102, Revision 04, which is referenced in the supplemental NPRM as the appropriate source of service information for the necessary inspection.

We concur. We have revised paragraph (e) of this AD to state that an inspection done according to Task 27-44-51-210-805 of the AMM is acceptable for compliance with that paragraph. (Paragraph (f) of this AD refers to the inspection in paragraph (e).)

Request To Clarify Terminology

One commenter requests that we revise paragraph (d) of the supplemental NPRM to revise the reference to grease being expelled through the “drain hole.” The commenter notes that the lubrication procedures specified in Chapter 12-22-27 of the Airbus A330/A340 AMM identify this orifice as the “vent hole.” The commenter requests that the terminology be changed for clarification. We concur and have revised paragraph (d) of this AD accordingly.

Request To Revise Cost Impact Estimate

One commenter requests that we revise the number of affected airplanes estimated in the Cost Impact section of the supplemental NPRM. The commenter notes that we estimate that 9 Model A330 series airplanes would be affected. The commenter operates 10 affected U.S.-registered Model A330 series airplanes.

We concur. Since the issuance of the original NPRM and the supplemental NPRM, more Model A330 series airplanes have been registered in the U.S. We have revised the estimated number of affected Model A330 series airplanes to 19.

Conclusion

After careful review of the available data, including the comments noted above, the FAA has determined that air safety and the public interest require the adoption of the rule with the changes previously described. The FAA has determined that these changes will neither increase the economic burden on any operator nor increase the scope of the AD.

Cost Impact

There are approximately 19 Model A330 series airplanes of U.S. registry that are affected by this AD. Currently, there are no affected Model A340-200 or -300 series airplanes on the U.S. Register. However, if an affected Model A340-200 or -300 series airplane is imported and placed on the U.S. Register in the future, the following costs will also apply to those airplanes.

The inspections (in accordance with Airbus All Operators Telex (AOT) A330-27A3088 or A340-27A4093, as applicable) that are currently required by AD 2001-11-09 take approximately 1 work hour per airplane, per inspection cycle, at an average labor rate of $65 per work hour. Based on these figures, the cost impact of the currently required actions on U.S. operators is estimated to be $1,235, or $65 per airplane, per inspection cycle.

The new inspections (in accordance with Airbus SBs A330-27-3088 or A340-27-4093, as applicable) that are required by this AD take approximately 1 work hour per airplane, per inspection cycle, at an average labor rate of $65 per work hour. Based on these figures, the cost impact of this requirement on U.S. operators is estimated to be $1,235, or $65 per airplane, per inspection cycle.

The new greasing action that is required by this AD takes approximately 1 work hour per airplane, per maintenance cycle, at an average labor rate of $65 per work hour. Based on these figures, the cost impact of this requirement on U.S. operators is estimated to be $1,235, or $65 per airplane, per maintenance cycle.

In addition to the actions stated above, certain airplanes may be subject to additional actions. The following table contains the cost impact estimate for each airplane affected by the SBs listed below, at an average labor rate of $65 per work hour:

For airplanes listed in Airbus SB— | Estimated number of work hours | Estimated parts cost | Estimated cost per airplane
A330-27-3085 or A340-27-4089, both Revision 02 | 12 | No charge | $780
A330-27-3093 or A340-27-4099, both Revision 01 | 6 | No charge | 390
A330-27-3052, Revision 03 | 6 | No charge | 390
A330-27-3007, Revision 01 | 1 | No charge | 65
A330-27-3015 | 2 | No charge | 130
A330-27-3047, Revision 01 | 2 | No charge | 130
A330-27-3050 | 2 | No charge | 130
A330-55-3020, Revision 01 | 2 (inspection only) | None | 130
A340-27-4059, Revision 03 | 6 | No charge | 390
A340-27-4007 | 2 | No charge | 130
A340-27-4025 | 2 | No charge | 130
A340-27-4054, Revision 01 | 2 | No charge | 130
A340-27-4057 | 2 | No charge | 130
A340-55-4021, Revision 01 | 2 (inspection only) | None | 130

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12252 (66 FR 31143, June 11, 2001), and by adding a new airworthiness directive (AD), amendment 39-14028, to read as follows:

2005-07-04 Airbus: Amendment 39-14028. Docket 2001-NM-243-AD. Supersedes AD 2001-11-09, Amendment 39-12252.

Applicability: All Model A330, A340-200, and A340-300 series airplanes; certificated in any category.

Compliance: Required as indicated, unless accomplished previously.

To prevent degraded operation of the trimmable horizontal stabilizer actuator (THSA) due to the entrance of water into the ball nut, which could result in reduced controllability of the airplane, accomplish the following:

Requirements of AD 2001-11-09

Repetitive Inspections

(a) For Model A330, A340-200, and A340-300 series airplanes equipped with a THSA part number (P/N) 47172, and on which Airbus Modification 45299 has been performed: Within 150 flight hours from June 26, 2001 (the effective date of AD 2001-11-09, amendment 39-12252), perform a detailed inspection to detect discrepancies in the THSA (including distortion of the transfer tubes, disconnection of the tubes, and distortion of the collar of the ball nut), in accordance with Airbus All Operators Telex (AOT) A330-27A3088 (for Model A330 series airplanes) or A340-27A4093 (for Model A340 series airplanes), both dated April 5, 2001, as applicable. If any discrepancy, as defined in paragraph 4-2-2/Rejection Criteria of the applicable AOT, is detected, prior to further flight, replace the THSA with a serviceable one, in accordance with the applicable AOT.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(b) At intervals not to exceed 150 flight hours, repeat the inspection mandated in paragraph (a) of this AD, until paragraph (c) of this AD has been accomplished.

New Requirements of This AD

Repetitive Detailed Inspections of THSA Ball Nut and Corrective Action

(c) For airplanes equipped with a THSA having P/N 47172 or 47147-400: At the applicable compliance time specified in paragraph (c)(1), (c)(2), or (c)(3) of this AD, perform a detailed inspection of the transfer tubes and collar on the THSA ball nut to detect discrepancies, including ball migration, distortion, or evidence of disconnection of the THSA ball nut; in accordance with Airbus Service Bulletin A330-27-3088 (for Model A330 series airplanes) or A340-27-4093 (for Model A340-200 and -300 series airplanes), both Revision 04, both dated September 5, 2002; as applicable. Repeat this inspection at intervals not to exceed 150 flight hours until paragraph (g) of this AD is accomplished. If any discrepancy is found during any inspection in accordance with this paragraph, before further flight, repair the THSA, in accordance with a method approved by the Manager, International Branch, ANM-116, Transport Airplane Directorate, FAA; or the Direction Générale de l'Aviation Civile (DGAC) (or its delegated agent).

(1) For airplanes equipped with a THSA having P/N 47172 or 47147-400: Except as provided by paragraph (c)(3) of this AD, for airplanes inspected before the effective date of this AD in accordance with paragraph (a) of this AD, do the initial inspection within 150 flight hours since the most recent inspection in accordance with paragraph (a) or (b) of this AD. Accomplishment of this inspection terminates the repetitive inspections required by paragraph (b) of this AD.

(2) For airplanes equipped with a THSA having P/N 47172 or 47147-400: Except as provided by paragraph (c)(3) of this AD, for airplanes not inspected before the effective date of this AD in accordance with paragraph (a) of this AD, do the initial inspection within 150 flight hours after the effective date of this AD. Accomplishment of this inspection within the compliance time specified in paragraph (a) of this AD eliminates the need to accomplish the inspection in paragraph (a) of this AD and terminates the repetitive inspections required by paragraph (b) of this AD.

(3) For airplanes equipped with a THSA having P/N 47172 or 47147-400: If the “F/CTL PRIM X PITCH FAULT” or “F/CTL STAB CTL FAULT” message is displayed on the electronic centralized aircraft monitor (ECAM) associated with the “PITCH TRIM ACTR (1CS)” maintenance message, do the inspection in paragraph (c) of this AD before further flight after the message is displayed on the ECAM.

Repetitive Greasing Procedure

(d) For airplanes equipped with a THSA having P/N 47172, 47172-300, or 47147-XXX (where “XXX” is any dash number): Within 700 flight hours after accomplishment of the last greasing of the ball nut of the THSA, grease the ball nut of the THSA in accordance with a method approved by the Manager, International Branch, ANM-116; or the DGAC (or its delegated agent). Doing the actions in Chapter 12-22-27, page block 301, of the Airbus A330/A340 Airplane Maintenance Manual (AMM) is one approved method. Repeat the greasing procedures at intervals not to exceed 700 flight hours. If, during any accomplishment of the greasing procedure, the new grease is expelled from the transfer tube (instead of through the vent hole): Before further flight, replace the THSA with a new or serviceable THSA in accordance with a method approved by either the Manager, International Branch, ANM-116, Transport Airplane Directorate, FAA; or the DGAC (or its delegated agent). Replacement of the THSA in accordance with Chapter 27-44-51 of the Airbus A330/A340 AMM is one approved method.

Repetitive Inspections of the Ball Screw Assembly and Corrective Actions

(e) For airplanes equipped with a THSA having P/N 47172, 47172-300, or 47147-XXX (where “XXX” is any dash number): Except as provided by paragraph (f) of this AD, within 700 flight hours after the effective date of this AD, perform a detailed inspection of the ball screw assembly for discrepancies; including cracks, metallic debris, dents, corrosion, loose nuts, and damaged or missing lock washers and pins; and an inspection of the gap between the secondary nut tenons and the transfer plates using a feeler gage to ensure free movement; in accordance with Airbus Service Bulletins A330-27-3102, Revision 05, dated July 7, 2004 (for Model A330 series airplanes); or A340-27-4107, Revision 04, dated June 20, 2003 (for Model A340-200 and -300 series airplanes); as applicable. A detailed inspection done in accordance with Task 27-44-51-210-805 of the Airbus A330/A340 AMM is one approved method of compliance with the inspection requirements of this paragraph. An operational test in accordance with Task 27-90-00-810-847 is another approved method for compliance with the inspection requirements of this paragraph, provided that, if the operational test confirms a discrepancy, the detailed inspection required by this paragraph, and applicable corrective actions, are done before further flight.

(1) Repeat the inspection at intervals not to exceed 700 flight hours, except as provided by paragraph (f) of this AD.

(2) If any discrepancy is found that is outside the limits specified in the applicable service bulletin, before further flight, replace the THSA with a new part, in accordance with a method approved by either the Manager, International Branch, ANM-116; or the DGAC (or its delegated agent). Replacement of the THSA in accordance with Chapter 27-44-51 of the Airbus A330/A340 AMM is one approved method.

Note 2: There is no terminating action at this time for the repetitive actions required by paragraphs (d) and (e) of this AD.

(f) If the “F/CTL PRIM X PITCH FAULT” or “F/CTL STAB CTL FAULT” message is displayed on the ECAM associated with the “PITCH TRIM ACTR (1CS)” maintenance message, do the inspection in paragraph (e) of this AD before further flight after the message is displayed on the ECAM.

Modification

(g) Within 24 months after the effective date of this AD, modify the ball nut of each THSA by doing paragraph (g)(1) or (g)(2) of this AD, as applicable. Accomplishment of paragraph (g)(1) or (g)(2) of this AD terminates the repetitive inspections required by paragraph (c) of this AD.

(1) For THSAs having P/N 47172: Modify the ball nut of the THSA, or replace the existing THSA with a serviceable part having P/N 47172-300; in accordance with Airbus Service Bulletin A330-27-3085 (for Model A330 series airplanes) or A340-27-4089 (for Model A340-313 series airplanes), both Revision 02, both dated September 5, 2002; as applicable.

Note 3: Airbus Service Bulletins A330-27-3085 and A340-27-4089 refer to TRW Aeronautical Systems Service Bulletin 47172-27-03, dated October 24, 2001, as the appropriate source of service information for additional instructions for accomplishing the modification of the ball nut of the THSA.

(2) For THSAs having P/N 47147-2XX, 47147-3XX, or 47147-400 (where “XX” represents any dash number): Modify the ball nut of the THSA, or replace the existing THSA with an improved part having P/N 47147-500; as applicable; in accordance with Airbus Service Bulletin A330-27-3093 (for Model A330 series airplanes) or A340-27-4099 (for Model A340-200 and -300 series airplanes), both Revision 01, both dated September 5, 2002; as applicable.

Note 4: Airbus Service Bulletins A330-27-3093 and A340-27-4099 refer to TRW Aeronautical Systems Service Bulletin 47147-27-10, dated June 27, 2002, as the appropriate source of service information for additional instructions for accomplishing the modification of the ball nut of the THSA.

Previous/Concurrent Requirements

(h) Prior to or concurrently with accomplishment of the requirements of paragraph (g)(2) of this AD, do all of the actions specified in the Accomplishment Instructions of the applicable Airbus service bulletins listed in Table 1 or 2 of this AD, as applicable, in accordance with those service bulletins.

Note 5: Airbus Service Bulletin A330-27-3093, Revision 01, dated September 5, 2002, specifies that the actions in Airbus Service Bulletin A330-27-3052 must be accomplished previously or concurrently. Airbus Service Bulletin A330-27-3052, Revision 03, dated December 5, 2001, specifies that the actions in Airbus Service Bulletins A330-27-3007, A330-27-3015, A330-27-3047, A330-27-3050, and A330-55-3020 must be accomplished previously or concurrently.

Note 6: Airbus Service Bulletin A340-27-4099, Revision 01, dated September 5, 2002, specifies that the actions in Airbus Service Bulletin A340-27-4059 must be accomplished previously or concurrently. Airbus Service Bulletin A340-27-4059, Revision 03, dated December 5, 2001, specifies that the actions in Airbus Service Bulletins A340-27-4007, A340-27-4025, A340-27-4054, A340-27-4057, and A340-55-4021, must be accomplished previously or concurrently.

Table 1.—Previous/Concurrent Requirements for Model A330 Series Airplanes
Airbus service bulletin | Revision level | Date | Main action | Additional source of service information
A330-27-3007 | 01 | September 18, 1996 | Replace rudder servo controls with modified parts | Samm Avionique Service Bulletin SC5300-27-24-01, dated April 15, 1994.
A330-27-3015 | Original | June 7, 1995 | Modify the control valve detent and the jamming protection device on the THSA | Lucas Aerospace Service Bulletin 47147-27-02, Revision 1, dated January 31, 1996.
A330-27-3047 | 01 | November 26, 1997 | Replace hydraulic motors on the THSA with new parts | Lucas Aerospace Service Bulletin 47147-27-04, Revision 1, dated June 20, 1997.
A330-27-3050 | Original | November 15, 1996 | Replace mechanical input shaft for THSA with modified part | Lucas Aerospace Service Bulletin 47147-27-05, dated November 8, 1996.
A330-27-3052 | 03 | December 5, 2001 | Replace THSA with a modified THSA | Lucas Aerospace Service Bulletin 47147-27-07, dated May 4, 1998.
A330-55-3020 | 01 | October 21, 1998 | Perform a general visual inspection of the THSA screw jack fitting assembly for correct installation of a washer; and correctly install washer as applicable | None.

Table 2.—Previous/Concurrent Requirements for Model A340 Series Airplanes
Airbus service bulletin | Revision level | Date | Main action | Additional source of service information
A340-27-4007 | Original | April 7, 1994 | Replace hydraulic motors on the THSA with new parts | Lucas Aerospace Service Bulletin 47147-27-01, dated May 4, 1998.
A340-27-4025 | Original | June 7, 1995 | Modify the control valve detent and the jamming protection device on the THSA | Lucas Aerospace Service Bulletin 47147-27-02, Revision 1, dated January 31, 1996.
A340-27-4054 | 01 | November 26, 1997 | Replace hydraulic motors on the THSA with new parts | Lucas Aerospace Service Bulletin 47147-27-04, Revision 1, dated June 20, 1997.
A340-27-4057 | Original | November 15, 1996 | Replace mechanical input shaft for THSA with modified part | Lucas Aerospace Service Bulletin 47147-27-05, dated November 8, 1996.
A340-27-4059 | 03 | December 5, 2001 | Replace THSA with a modified THSA | Lucas Aerospace Service Bulletin 47147-27-07, dated May 4, 1998.
A340-55-4021 | 01 | October 21, 1998 | Perform a general visual inspection of the THSA screw jack fitting assembly for correct installation of a washer; and correctly install washer as applicable | None.

Note 7: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Actions Accomplished Previously

(i) Actions accomplished before the effective date of this AD in accordance with previous revisions of the service information referenced in this AD are acceptable for corresponding actions required by this AD as specified in paragraphs (i)(1), (i)(2), (i)(3), and (i)(4) of this AD.

(1) Inspections and corrective actions accomplished in accordance with Airbus Service Bulletin A330-27-3088 (for Model A330 series airplanes) or A340-27-4093 (for Model A340-200 and -300 series airplanes), both Revision 03, both excluding Appendix 01, both dated October 19, 2001; as applicable; are acceptable for compliance with paragraph (c) of this AD.

(2) Inspections and corrective actions accomplished in accordance with Airbus Service Bulletin A330-27-3102, Revision 02, excluding Appendix 01, dated November 7, 2002, Revision 03, excluding Appendix 01, dated June 20, 2003, or Revision 04, dated December 8, 2003 (for Model A330 series airplanes); or A340-27-4107, Revision 03, excluding Appendix 01, dated December 4, 2002 (for Model A340-200 and -300 series airplanes); as applicable; are acceptable for compliance with paragraph (e) of this AD.

(3) Modifications accomplished in accordance with Airbus Service Bulletin A330-27-3085 (for Model A330 series airplanes) or A340-27-4089 (for Model A340-313 series airplanes), both Revision 01, both dated January 23, 2002; as applicable; are acceptable for compliance with paragraph (g)(1) of this AD.

(4) Modifications accomplished in accordance with Airbus Service Bulletin A330-27-3093 (for Model A330 series airplanes) or A340-27-4099 (for Model A340-200 and -300 series airplanes), both dated June 27, 2002; as applicable; are acceptable for compliance with paragraph (g)(2) of this AD.

No Reporting Required

(j) Where Airbus Service Bulletins A330-27-3088, Revision 04, dated September 5, 2002; A340-27-4093, Revision 04, dated September 5, 2002; A330-27-3102, Revision 05, dated July 7, 2004; and A340-27-4107, Revision 04, dated June 20, 2003; describe procedures for completing a reporting sheet with inspection results, this AD does not require that action.

Alternative Methods of Compliance

(k) In accordance with 14 CFR 39.19, the Manager, International Branch, ANM-116, is authorized to approve alternative methods of compliance for this AD.

Incorporation by Reference

(l) Unless otherwise specified in this AD, the actions shall be done in accordance with Airbus All Operators Telex A330-27A3088, dated April 5, 2001; Airbus All Operators Telex A340-27A4093, dated April 5, 2001; or the Airbus service bulletins listed in Table 3 of this AD; as applicable.

Table 3.—Airbus Service Bulletins Incorporated by Reference
Service bulletin | Revision | Date
A330-27-3007 | 01 | September 18, 1996.
A330-27-3015 | Original | June 7, 1995.
A330-27-3047 | 01 | November 26, 1997.
A330-27-3050 | Original | November 15, 1996.
A330-27-3052 | 03 | December 5, 2001.
A330-27-3085 | 02 | September 5, 2002.
A330-27-3088, excluding Appendix 01 | 04 | September 5, 2002.
A330-27-3093 | 01 | September 5, 2002.
A330-27-3102, excluding Appendix 01 | 05 | July 7, 2004.
A330-55-3020 | 01 | October 21, 1998.
A340-27-4007 | Original | April 7, 1994.
A340-27-4025 | Original | June 7, 1995.
A340-27-4054 | 01 | November 26, 1997.
A340-27-4057 | Original | November 15, 1996.
A340-27-4059 | 03 | December 5, 2001.
A340-27-4089 | 02 | September 5, 2002.
A340-27-4093, excluding Appendix 01 | 04 | September 5, 2002.
A340-27-4099 | 01 | September 5, 2002.
A340-27-4107, excluding Appendix 01 | 04 | June 20, 2003.
A340-55-4021 | 01 | October 21, 1998.

Airbus Service Bulletin A330-27-3007, Revision 01, contains the following effective pages:

Page No. | Revision level shown on the page | Date shown on the page
1, 7 | 01 | September 18, 1996.
2-6 | Original | October 5, 1994.

(1) The incorporation by reference of the Airbus Service Bulletins in Table 3 of this AD is approved by the Director of the Federal Register in accordance with 5 U.S.C. 552(a) and 1 CFR part 51.

(2) The incorporation by reference of Airbus All Operators Telex A330-27A3088, dated April 5, 2001; and Airbus All Operators Telex A340-27A4093, dated April 5, 2001; was approved previously by the Director of the Federal Register as of June 26, 2001 (66 FR 31143, June 11, 2001).

(3) To get copies of this service information, go to Airbus, 1 Rond Point Maurice Bellonte, 31707 Blagnac Cedex, France. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Note 8: The subject of this AD is addressed in French airworthiness directives F-2002-414 R3, dated July 7, 2004, and 2002-415(B) R2, dated October 30, 2002.

Effective Date

(m) This amendment becomes effective on May 4, 2005.

Issued in Renton, Washington, on March 17, 2005.
Jeffrey E. Duven,
Acting Manager, Transport Airplane Directorate, Aircraft Certification Service.

[FR Doc. 05-6111 Filed 3-29-05; 8:45 am]

BILLING CODE 4910-13-P